FEDERAL COMMUNICATIONS COMMISSION

47 CFR Part 61

[WC Docket Nos. 16-143, 05-25, GN Docket No. 13-5, RM-10593; FCC 17-43]

Business Data Services in an Internet Protocol Environment; Technology Transitions; Special Access for Price Cap Local Exchange Carriers; AT&T Corporation Petition for Rulemaking

AGENCY: Federal Communications Commission.

ACTION: Final rule; announcement of effective date.

SUMMARY: In this document, the Commission announces that the Office of Management and Budget (OMB) has approved, for a period of three years, an information collection associated with the Commission's Business Data Services Report and Order, FCC 17-43, which, among other things, adopted an X-factor of two percent and required price cap ILECs to make a one-time filing to revise their Tariff Review Plans (TRPs) to implement the new X-factor to become effective on December 1, 2017. In particular, the Commission amended its rules to state that the X-factor shall equal 2 percent effective December 1, 2017. This document is consistent with the Order, which stated that the Commission would publish a document in the Federal Register announcing the effective date of this rule.

DATES: The amendment to 47 CFR 61.45(b)(1)(iv), published at June 2, 2017, 82 FR 25660, is effective October 31, 2017.

FOR FURTHER INFORMATION CONTACT: William Kehoe, Pricing Policy Division, Wireline Competition Bureau, at (202) 418-7122, or email: william.kehoe@fcc.gov.

SUPPLEMENTARY INFORMATION: This document announces that, on October 13, 2017, OMB approved, for a period of three years, the information collection requirement relating to § 61.45(b)(1)(iv) of the Commission's rules, as contained in the Commission's Business Data Services Report and Order, FCC 17-43, published at 82 FR 25660, June 2, 2017. The OMB Control Number is 3060-0400. The Commission publishes this document as an announcement of the effective date of the rules. If you have any comments on the burden estimates listed below, or how the Commission can improve the collections and reduce any burdens caused thereby, please contact Nicole Ongele, Federal Communications Commission, Room 1-A620, 445 12th Street SW., Washington, DC 20554. Please include the OMB Control Number, 3060-0400, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on October 13, 2017, for the information collection requirements contained in the modifications to the Commission's rules in 47 CFR part 61. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0400.

The foregoing notice is required by the Paperwork Reduction Act of 1995, Public Law 104-13, October 1, 1995, and 44 U.S.C. 3507.

The total annual reporting burdens and costs for the respondents are as follows:

OMB Control Number: 3060-0400.

OMB Approval Date: October 13, 2017.

OMB Expiration Date: October 31, 2020.

Title: Part 61, Tariff Review Plan.

Form Number: N/A.

Respondents: Business or other for-profit entities.

Number of Respondents and Responses: 2,749 respondents; 4,165 responses.

Estimated Time per Response: 0.50 hours—53 hours.

Frequency of Response: One-time, biennial and on-occasion reporting requirements.

Obligation to Respond: Required to obtain or retain benefits. Statutory authority for this information collection (IC) is contained in 47 U.S.C. 10(a) of the Communications Act of 1934, as amended.

Total Annual Burden: 60,878 hours.

Total Annual Cost: No Cost.

Nature and Extent of Confidentiality: Respondents are not being asked to submit confidential information to the Commission. If the Commission requests respondents to submit information which respondents believe are confidential, respondents may request confidential treatment of such information under 47 CFR 0.459 of the Commission's rules.

Privacy Act: No impact(s).

Needs and Uses: The Commission has developed standardized Tariff Review Plans (TRPs) that set forth the summary material that incumbent LECs (LECs) file to support revisions to the rates in their interstate access service tariffs. The TRPs display basic data on rate development in a consistent manner, thereby facilitating review of the incumbent LEC rate revisions by the Commission and interested parties. The TRPs have served this purpose effectively in past years.

On April 20, 2017, the Commission adopted the Business Data Services Report and Order, FCC 17-43, reforming the business data services/special access regulations for incumbent and competitive LECs by detariffing certain business data services and modifying the regulatory obligations for those business data services that will remain tariffed. Additionally, the Order adopted an X-factor of two percent and required price cap ILECs to make a one-time filing to revise their TRPs to implement the new X-factor to become effective on December 1, 2017. In particular, the Commission amended § 61.45(b)(1)(iv) of its rules to state that the X-factor shall equal 2 percent effective December 1, 2017. To ease the burden on industry, the only factor that changes in the revised TRPs is the X-factor. Base period demand and the value of GDP-PI will stay constant for this particular filing.

Federal Communications Commission.
Marlene H. Dortch,
Secretary, Office of the Secretary.

[FR Doc. 2017-23621 Filed 10-30-17; 8:45 am]

BILLING CODE 6712-01-P